NATIONAL INDIAN GAMING COMMISSION

Notice of Approved Class III Tribal Gaming Ordinance

AGENCY: National Indian Gaming Commission.

ACTION: Notice.

SUMMARY: The purpose of this notice is to inform the public of the approval of Cocopah Indian Tribe Class III gaming ordinance by the Chairman of the National Indian Gaming Commission.

DATES: This notice is applicable September 26, 2022.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register is sufficient to meet the requirements of 25 U.S.C. 2710(d)(2)(B). Every ordinance and approval thereof is posted on the Commission's website (www.nigc.gov) under General Counsel, Gaming Ordinances within five (5) business days of approval.

On July 11, 2022, the Chairman of the National Indian Gaming Commission approved Cocopah Indian Tribe Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: September 20, 2022.
Michael Hoenig,
General Counsel.

July 11, 2022

VIA EMAIL

Sherry Cordova, Chairwoman

Cocopah Indian Tribe

14515 S Veterans Drive

Somerton, AZ 85350

Re: Cocopah's Amended Gaming Ordinance

Dear Chairwoman Cordova,

This letter is in response to the Cocopah Indian Tribe's request, dated May 13, 2022, to the National Indian Gaming Commission (“NIGC”) Chairman for review and approval of amendments to the Tribe's gaming ordinance.

Resolution CT-2022-11 replaces the Tribe's current gaming ordinance, CTO-2016-2, with a wholly revised and updated version. This newly amended ordinance reflects recent amendments to the Arizona State-Tribal Gaming Compact and NIGC regulation changes, and other updates deemed necessary by the Tribe in the 7 years since the last amendment.

The amendments are consistent with the requirements of the Indian Gaming Regulatory Act and NIGC regulations and are hereby approved. If you have any questions concerning this letter or the ordinance review process, please contact Mandy Cisneros at mandy.cisneros@nigc.gov.

Sincerely,

E. Sequoyah Simermeyer Chairman

cc: Judy Graham, Gaming Commission Chair, via email: sherry@cocopah.com

Glenn Feldman, Attorney, via email: glenn.feldman@procopi.com

Bonnie Atwell, Executive Director of Gaming, via email: batwell@cocopah-casino.com

[FR Doc. 2022-20743 Filed 9-23-22; 8:45 am]

BILLING CODE 7565-01-P